DEPARTMENT OF COMMERCE

National Oceanic and Atmospheric Administration

RIN 0648-XC501

South Atlantic Fishery Management Council; Public Meeting

AGENCY: National Marine Fisheries Service (NMFS), National Oceanic and Atmospheric Administration (NOAA), Commerce.

ACTION: Notice of meetings of the South Atlantic Fishery Management Council.

SUMMARY: In addition to a Council Member Visioning Workshop, the South Atlantic Fishery Management Council (Council) will hold meetings of the: Joint South Atlantic Fishery Management Council (SAFMC)/Gulf of Mexico Fishery Management Council (GMFMC) King and Spanish Mackerel Committee; Ecosystem-Based Management Committee; Dolphin Wahoo Committee; Golden Crab Committee; Snapper Grouper Committee; Ad Hoc Data Collection Committee; Information & Education Committee; Law Enforcement Committee; Executive Finance Committee; and a meeting of the Full Council. The Council will take action as necessary. The Council will also hold an informal public question and answer session regarding agenda items and a formal public comment session.

DATES: The Council meeting will be held from 9 a.m. on Monday, March 4, 2013 until 5 p.m. on Friday, March 8, 2013.

ADDRESSES: The meeting will be held at the Sea Palms Resort and Conference Center, 5445 Frederica Road, St. Simons Island, GA 31522; telephone: (800) 841-6268 or (912) 638-3351; fax: (912) 638-5416.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

Council Member Visioning Workshop Agenda: Monday, March 4, 2013, 9 a.m. Until 12 Noon

Receive a presentation by the Ad Hoc Visioning Committee, discuss the process and provide direction to staff.

Joint SAFMC/GMFMC King and Spanish Mackerel Committee Agenda: Monday, March 4, 2013, 1:30 p.m. Until 6 p.m.

1. Receive and discuss updates on the status of commercial and recreational catches versus quotas for species under Annual Catch Limits (ACLs) and take action as appropriate.

2. Receive an overview of the Joint South Atlantic/Gulf of Mexico Mackerel Amendment 19, pertaining to permits and tournament sale requirements, and Amendment 20, regarding boundaries and transit provisions. The joint committee will modify the amendments as appropriate and provide guidance to staff.

3. Receive an overview of actions and alternatives in the South Atlantic Mackerel Framework, modify the amendment as appropriate and provide guidance to staff.

Ecosystem-Based Management Committee Agenda: Tuesday, March 5, 2013, 8 a.m. Until 10 a.m.

1. Review and discuss actions and alternatives in Coral Amendment 8, pertaining to Coral Habitat Areas of Particular Concern (HAPCs) and transit through the Oculina HAPC. Provide guidance to staff.

2. Receive a draft of the Council's Coral Memorandum of Understanding (MoU). Review and discuss input from the Habitat and Coral Advisory Panels (APs) and provide guidance to staff.

3. Receive and discuss an update on Ecosystem activities and provide guidance to staff.

Dolphin Wahoo Committee Agenda: Tuesday, March 5, 2013, 10 a.m. Until 11 a.m.

1. Receive and discuss updates on the status of commercial and recreational catches versus quotas and take action as necessary.

2. Receive an overview of scoping comments as well as the Decision Document for Dolphin Wahoo Amendment 5, pertaining to bag limit sales of fish and changes to the ACL and the Allowable Biological Catch (ABC). Discuss actions and alternatives to Amendment 5 and provide direction to staff.

Golden Crab Committee Agenda: Tuesday, March 5, 2013, 11 a.m. Until 12 Noon

1. Receive and discuss the status of commercial catches versus quotas and take action as necessary.

2. Receive a report from the Golden Crab AP meeting.

3. Receive an update on the status of Golden Crab Amendment 6, regarding catch shares. Determine whether to proceed with Amendment 6 and take action as necessary.

Snapper Grouper Committee Agenda: Tuesday, March 5, 2013, 1:30 p.m. Until 5:30 p.m. and Wednesday, March 6, 2013, 8:30 a.m. Until 5 p.m.

1. Receive and discuss updates on the status of commercial and recreational catches versus quotas for species under ACLs and take action as necessary.

2. Discuss the status of amendments currently under formal review as well as a request for an extension of the yellowtail snapper temporary rule.

3. Receive an overview of Snapper Grouper Amendment 30, regarding Vessel Monitoring Systems (VMS), including a VMS presentation. Discuss the amendment, modify it as appropriate, select preferred alternatives and recommend approval of the amendment for public hearings.

4. Discuss Regulatory Amendment 18, pertaining to vermilion snapper and red porgy. Review public hearing comments, modify the amendment as appropriate, select preferred alternatives, recommend approval of the amendment for formal Secretarial review, and deem the codified text as necessary and appropriate.

5. Discuss Amendment 27, pertaining to blue runner and the management authority for yellowtail snapper, mutton snapper and Nassau grouper. Review public hearing comments, modify the amendment as appropriate, select preferred alternatives, recommend approval of the amendment for formal Secretarial review, and deem the codified text as necessary and appropriate.

6. Discuss Regulatory Amendment 14, relating to management measures for greater amberjack, mutton snapper, gray triggerfish, hogfish, black sea bass, vermilion snapper and gag grouper. Review the options paper, provide guidance to staff on actions and alternatives, and discuss the timing of the amendment.

7. Discuss Regulatory Amendment 16 options, relating to management measures for the commercial tilefish longline fishery. Review the options paper, provide guidance to staff on actions and alternatives, and discuss the timing of the amendment.

8. Discuss Marine Protected Areas (MPAs) and HAPCs for speckled hind and warsaw grouper. Review the results of the MPA Expert Workgroup Meeting, provide guidance to staff on actions and alternatives, and discuss timing.

Note: There will be an informal public question and answer session with the NMFS Regional Administrator and the Council Chairman on Wednesday, March 6, 2013, beginning at 5:30 p.m.

Ad Hoc Data Collection Committee Agenda: Thursday, March 7, 2013, 8:30 a.m. Until 12 Noon

1. Receive an update on the status of the Joint South Atlantic/Gulf Generic Dealer Amendment, revise the amendment as appropriate and recommend approval of the amendment for formal Secretarial review.

2. Review information that relates to bycatch action in Comprehensive Ecosystem-Based Amendment 3 (CE-BA 3). Revise the amendment as appropriate and recommend approval of the amendment for formal Secretarial review.

3. Review the Joint South Atlantic/Gulf Generic For-Hire Reporting Amendment that pertains to the South Atlantic. Review the results of the Gulf Council actions, revise this portion of the amendment as appropriate, and recommend approval of these actions for formal Secretarial review. Additionally, review the information in the amendment that applies to both the Gulf and the South Atlantic, review the results of the Gulf Council actions, provide guidance to staff, and recommend approval of the next steps in the development of the amendment.

4. Receive an overview of both the Joint South Atlantic/Gulf Generic Commercial Logbook Reporting Amendment and the Joint South Atlantic/Gulf Generic Charterboat Reporting Amendment, review the results of the Gulf Council actions, provide guidance to staff, and recommend approval of the next steps in the development of the amendments.

Information and Education Committee Agenda: Thursday, March 7, 2013, 1:30 p.m. Until 3 p.m.

1. Receive an update on the Joint Outreach Projects: Marine Recreational Education Program (MREP) and Managing Our Nations' Fisheries 3 Conference.

2. Receive an update on the use of social media tools, including: The Atlantic Coast Communication Group Social Media Workshop; the status of the smartphone regulation application; and the Council's use of Facebook. Review and discuss the recommendations of the Information & Education (I&E) AP and provide committee recommendations for Council consideration.

3. Review and discuss the recommendations of the Joint Law Enforcement (LE) and I&E AP meeting regarding outreach efforts for VMS and provide direction to staff.

4. Receive an update on the SAFMC Web site upgrade, review and discuss the recommendations of the Joint LE and I&E AP meeting regarding the upgrade and provide recommendations for Council consideration.

5. Review and discuss the proposed outreach activities for 2013-14 as well as recommendations from the I&E AP. Provide recommendations for Council consideration.

6. Review the Council Visioning Process and the Strategic Planning Process for the Information & Education Program. Review and discuss recommendations from the I&E AP and provide direction to staff.

7. Discuss the recommendations from the Joint LE and I&E AP meeting regarding communication improvements for regulatory and law enforcement issues with officers and field offices. Provide direction to staff.

Law Enforcement Committee Agenda: Thursday, March 7, 2013, 3 p.m. Until 4 p.m.

1. Receive a report from the LE AP meeting and the Joint LE and I&E AP meeting. Discuss the reports and take action as appropriate.

Executive Finance Committee Agenda: Thursday, March 7, 2013, 4 p.m. Until 5:30 p.m.

1. Receive an update on the status of the federal fiscal year (FY) 2013 budget and the calendar year (CY) 2013 budget expenditures.

2. Receive an update on the Joint Committee on South Florida Management Issues activities.

3. Discuss Council Follow-up and Priorities and address other issues as appropriate.

Council Session Agenda: Friday, March 8, 2013, 8:30 a.m. Until 5 p.m.

8:30-8:45 a.m.: Call the meeting to order, adopt the agenda and approve the December 2012 minutes.

8:45 a.m.: A formal public comment session will be held on: Snapper Grouper Regulatory Amendment 18; Snapper Grouper Amendment 27; the extension of the yellowtail snapper temporary rule; Joint South Atlantic/Gulf Generic Dealer Amendment; Comprehensive Ecosystem-Based Amendment 3; Joint South Atlantic/Gulf Generic For-Hire Reporting Amendment (South Atlantic only); followed by comment on any other item on the agenda.

10:30-11:15 a.m.: The Council will receive a report from the Snapper Grouper Committee and will approve the following amendments for formal Secretarial review: The extension of the yellowtail snapper temporary rule; Snapper Grouper Regulatory Amendment 18; and Snapper Grouper Amendment 27. The Council will approve Snapper Grouper Amendment 30 for public hearing. The Council will consider other Committee recommendations and take action as appropriate.

11:15 a.m.-12 noon: The Council will receive a presentation on Amendment 8 to the Consolidated Highly Migratory Species (HMS) Fishery Management Plan. This amendment pertains to commercial swordfish permits.

1-1:15 p.m.: The Council will receive a legal briefing on litigation. (CLOSED SESSION)

1:15-1:45 p.m.: The Council will receive a report from the Ad Hoc Data Collection Committee and will approve the following amendments for formal Secretarial review: the Joint South Atlantic/Gulf Generic Dealer Amendment; CE-BA 3; and the Joint South Atlantic/Gulf Generic For-Hire Reporting Amendment (South Atlantic only). The Council will consider other Committee recommendations and take action as appropriate.

1:45-2 p.m.: The Council will receive a report from the King & Spanish Mackerel Committee, consider other recommendations and take action as appropriate.

2-2:15 p.m.: The Council will receive a report from the Ecosystem-Based Management Committee, consider other recommendations and take action as appropriate.

2:15-2:30 p.m.: The Council will receive a report from the Dolphin Wahoo Committee, consider other recommendations and take action as appropriate.

2:30-2:45 p.m.: The Council will receive a report from the Golden Crab Committee, consider other recommendations and take action as appropriate.

2:45-3 p.m.: The Council will receive a report from the Information & Education Committee, consider other recommendations and take action as appropriate.

3-3:15 p.m.: The Council will receive a report from the Law Enforcement Committee, consider other recommendations and take action as appropriate.

3:15-3:30 p.m.: The Council will receive a report from the Executive Finance Committee, consider other recommendations and take action as appropriate.

3:30-5 p.m.: The Council will receive presentations and status reports from the NOAA Southeast Regional Office (SERO) and the NMFS Southeast Fisheries Science Center (SEFSC), review and develop recommendations on Experimental Fishing Permits, review agency and liaison reports, and discuss other business, including upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: February 11, 2013.
Tracey L. Thompson,
Acting Deputy Director, Office of Sustainable Fisheries, National Marine Fisheries Service.

[FR Doc. 2013-03496 Filed 2-14-13; 8:45 am]

BILLING CODE 3510-22-P